DEPARTMENT OF THE TREASURY

Submission for OMB Review; Comment Request

December 15, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 20, 2010 to be assured of consideration.

Alcohol and Tobacco Tax and Trade Bureau (TTB)

OMB Number: 1513-0077.

Type of Review: Revision.

Title: Records of Things of Value to Retailers, and Occasional Letter Reports from Industry Members Regarding Information on Sponsorships, Advertisements, Promotions, etc., under the FAA Act—TTB REC 5190/1.

Description: These records and occasional letter reports are used to show compliance with the provisions of the Federal Alcohol Administration Act which prevents wholesalers, producers, or importers from giving things of value to retail liquor dealers, and prohibits industry members from conducting certain types of sponsorships, advertisings, promotions, etc.

Respondents: Businesses or other for-profits.

Estimated Total Burden Hours: 2,112 hours.

OMB Number: 1513-0072.

Type of Review: Extension.

Title: Applications and Notices—Manufacturers of Non-beverage Products (TTB REC 5530/1).

Description: Reports (Letterhead Applications and Notices) are submitted by manufacturers of non-beverage products who are using distilled spirits on which drawback will be claimed. TTB uses these reports to ensure that operations are in compliance with the law, to prevent spirits from being diverted to beverage use, and to protect the revenue.

Respondents: Businesses or other for-profits.

Estimated Total Burden Hours: 510 hours.

OMB Number: 1513-0098.

Type of Review: Extension.

Form: TTB F 5154.2.

Title: Supporting Data for Non-beverage Drawback Claims.

Description: Data required to be submitted by manufacturers of non-beverage products are used to verify claims for drawback of taxes and hence, to protect the revenue. This form is used to verify that all distilled spirits can be accounted for and that drawback is paid only in the amount prescribed by law.

Respondents: Businesses or other for-profits.

Estimated Total Burden Hours: 3,422 hours.

OMB Number: 1513-0093.

Type of Review: Extension.

Form: TTB F 5600.38.

Title: Application for Extension of Time for Payment of Tax.

Description: TTB uses the information on the form to determine if a taxpayer is qualified to extend the tax payment based on circumstances beyond the taxpayer's control.

Respondents: Businesses or other for-profits.

Estimated Total Burden Hours: 3 hours.

OMB Number: 1513-0064.

Type of Review: Extension.

Title: Importer's Records and Reports (TTB REC 5170/1).

Description: This recordkeeping and reporting requirement concerns the records which must be maintained by the importer as well as the applications and notices required to be submitted to TTB. The records are used by TTB to verify that operations are being conducted in compliance with the law and to ensure that all taxes and duties have been paid on imported spirits, thus protecting the revenue.

Respondents: Federal Government.

Estimated Total Burden Hours: 251 hours.

OMB Number: 1513-0052.

Type of Review: Revision.

Form: TTB F 5110.75.

Title: Alcohol Fuel Plants (AFP) Records, Reports, and Notices (REC 5110/10).

Description: This information is necessary to determine that persons are qualified to produce alcohol for fuel purposes, and to identify such persons; to account for distilled spirits produced, and verify its proper disposition; to keep registrations current; and to evaluate permissible variations from prescribed procedures.

Respondents: Businesses or other for-profits.

Estimated Total Burden Hours: 2,784 hours.

Clearance Officer: Frank Foote (202) 927-9347, Alcohol and Tobacco Tax and Trade Bureau, Room 200 East, 1310 G Street, NW., Washington, DC 20005.

OMB Reviewer: Shagufta Ahmed, (202) 395-7873, Office of Management and Budget, Room 10235, New Executive Office Building, Washington, DC 20503.

Celina Elphage,
Treasury PRA Clearance Officer.

[FR Doc. E9-30214 Filed 12-18-09; 8:45 am]

BILLING CODE 4810-31-P